OFFICE OF PERSONNEL MANAGEMENT

Excepted Service

AGENCY: Office of Personnel Management.

ACTION: Notice.

SUMMARY: This gives notice of OPM decisions granting authority to make appointments under Schedules A, B, and C in the excepted service as required by 5 CFR 6.6 and 213.103.

FOR FURTHER INFORMATION CONTACT: Quasette Crowner, Chief, Executive Resources Group, Center for Leadership and Executive Resources Policy, Division for Strategic Human Resources Policy, by phone, 202-606-8046.

SUPPLEMENTARY INFORMATION: Appearing in the listing below are the individual authorities established under Schedules A, B, and C between July 1, 2005, and July 31, 2005. Future notices will be published on the fourth Tuesday of each month, or as soon as possible thereafter. A consolidated listing of all authorities as of June 30 is published each year.

Schedule A

No Schedule A appointments were approved for June 2005.

Schedule B

No Schedule B appointments were approved for June 2005.

Schedule C

The following Schedule C appointments were approved during June 2005:

Section 213.3303 Executive Office of the President

Council on Environmental Quality

EQGS00022 Deputy Director for Communications to the Associate Director for Communications.

Effective July 06, 2005.

Office of Science and Technology Policy

TSGS00001 Confidential Assistant to the Chief of Staff. Effective July 26, 2005.

Section 213.3304 Department of State

DSGS60983 Staff Assistant to the Chief of Protocol. Effective July 11, 2005.

DSGS60978 Director, New Partner Outreach to the HIV/AIDS Coordinator. Effective July 18, 2005.

DSGS60982 Staff Assistant to the Senior Advisor to the Secretary and White House Liaison.

Effective July 18, 2005.

DSGS60973 Chief of Staff to the Director, Policy Planning Staff. Effective July 19, 2005.

DSGS60980 Staff Assistant to the Under Secretary for Arms Control and Security Affairs. Effective July 19, 2005.

DSGS60979 Special Assistant to the Assistant Secretary. Effective July 20, 2005.

DSGS60976 Special Assistant to the Senior Advisor to the Secretary and White House Liaison.

Effective July 22, 2005.

DSGS60984 Special Assistant to the Senior Advisor to the Secretary and White House Liaison.

Effective July 22, 2005.

Section 213.335 Department of the Treasury

DYGS00455 Special Assistant to the Deputy Assistant Secretary (Financial Education). Effective July 07, 2005.

DYGS00459 Special Assistant to Director of Legislative and Intergovernmental Affairs. Effective July 15, 2005.

DYGS60307 Senior Advisor to the Treasurer of the United States. Effective July 18, 2005.

DYGS00416 Senior Advisor to the Assistant Secretary (Management) and Chief Financial Officer. Effective July 22, 2005.

DYGS00460 Senior Advisor to the Under Secretary for Enforcement. Effective July 22, 2005.

Section 213.3306 Department of Defense

DDGS16877 Personal and Confidential Assistant to the Assistant Secretary of Defense (Special Operations/Low Intensity Conflict). Effective July 11, 2005.

DDGS16881 Staff Assistant to the Deputy Assistant Secretary of Defense (Eurasia). Effective July 11, 2005.

DDGS16882 Staff Assistant to the Principal Deputy Assistant Secretary of Defense (International Security Policy). Effective July 11, 2005.

DDGS16874 Confidential Assistant to the Assistant Secretary of Defense (Reserve Affairs). Effective July 12, 2005.

DDGS16885 Public Affairs Specialist to the Principal Deputy Assistant Secretary of Defense for Public Affairs. Effective July 18, 2005.

Section 213.3307 Department of the Army

DWGS60015 Special Assistant for Business System Analysis to the Secretary of the Army. Effective July 19, 2005.

Section 213.3310 Department of Justice

DJGS00238 Press Assistant to the Director, Office of Public Affairs. Effective July 06, 2005.

DJGS00307 Associate Director to the Director, Office of Intergovernmental and Public Liaison. Effective July 06, 2005.

DJGS00337 Special Assistant to the Special Counsel. Effective July 06, 2005.

Section 213.3311 Department of Homeland Security

DMGS00346 Executive Assistant to the Counselor to the Deputy Secretary. Effective July 06, 2005.

DMGS00379 Legislative Assistant to the Director of Legislative Affairs for Border and Transportation Security. Effective July 08, 2005.

DMGS00381 Speechwriter to the Director of Communications. Effective July 08, 2005.

DMGS00384 Confidential Assistant to the Executive Secretary. Effective July 11, 2005.

DMGS00380 Public Affairs Specialist to the Deputy Assistant Secretary for Public Affairs. Effective July 12, 2005.

DMGS00382 Press Assistant to the Deputy Assistant Secretary for Public Affairs. Effective July 12, 2005.

DMGS00388 Policy Analyst to the Chief of Staff and Senior Policy Advisor. Effective July 15, 2005.

DMGS00389 Writer-Editor and Protocol Coordinator to the Executive Secretary. Effective July 15, 2005.

DMGS00390 Public Affairs Assistant, Information Analysis and Infrastructure Protection to the Deputy Assistant Secretary for Public Affairs. Effective July 15, 2005.

DMGS00386 Legislative Assistant to the Assistant Secretary for Legislative Affairs. Effective July 18, 2005.

DMGS00372 Protocol Coordinator to the Director of Scheduling and Advance. Effective July 26, 2005.

DMGS00385 Advance Representative to the Director of Scheduling and Advance. Effective July 26, 2005.

DMGS00374 Senior Advisor to the Officer of Civil Rights and Civil Liberties. Effective July 28, 2005.

DMGS00391 Press Assistant to the Director of Communications, Office of Domestic Preparedness. Effective July 28, 2005.

DMGS00392 Associate Executive Secretary for Correspondence to the Executive Secretary. Effective July 29, 2005.

DMOT00394 Director, Stakeholder and Industry Affairs to the Assistant Administrator for Transportation Security Policy. Effective July 29, 2005.

Section 213.3312 Department of the Interior

DIGS61040 Special Assistant to the Solicitor. Effective July 13, 2005.

DIGS01041 Special Assistant, Advance to the Director, Scheduling and Advance. Effective July 14, 2005.

DIGS01042 Special Assistant to the White House Liaison. Effective July 14, 2005.

Section 213.3313 Department of Agriculture

DAGS00809 Special Assistant to the Deputy Administrator, Program Operations. Effective July 08, 2005.

DAGS00811 Staff Assistant to the Chief, Natural Research Conservation Service. Effective July 08, 2005.

DAGS00808 Special Assistant to the Chief, Natural Research Conservation Service. Effective July 11, 2005.

DAGS00812 Staff Assistant to the Chief, Natural Research Conservation Service. Effective July 15, 2005.

DAGS00813 Confidential Assistant to the Deputy Assistant Secretary. Effective July 22, 2005.

Section 213.3314 Department of Commerce

DCGS00405 Chief of Staff to the Assistant Secretary and Director General of the United States Commercial Service. Effective July 08, 2005.

DCGS60001 Deputy Director, Office of Business Liaison to the Director, Office of Business Liaison. Effective July 08, 2005.

DCGS60415 Legislative Affairs Specialist to the Director, Office of Legislative Affairs. Effective July 08, 2005.

DCGS00342 Deputy Director to the Director Office of Liaison. Effective July 14, 2005.

Section 213.3315 Department of Labor

DLGS60139 Special Assistant to the Secretary of Labor. Effective July 06, 2005.

DLGS60114 Special Assistant to the Assistant Secretary for Public Affairs. Effective July 14, 2005.

DLGS60132 Special Assistant to the Secretary of Labor. Effective July 14, 2005.

DLGS60261 Special Assistant to the Deputy Assistant Secretary for Mine Safety and Health. Effective July 14, 2005.

Section 213.3316 Department of Health and Human Services

DHGS00666 Deputy Director for Intergovernmental Affairs (Operations) to the Director of Intergovernmental Affairs. Effective July 26, 2005.

DHGS60418 Confidential Assistant to the Deputy Assistant Secretary for Public Affairs (Policy and Strategy). Effective July 28, 2005.

Section 213.3317 Department of Education

DBGS00408 Confidential Assistant to the Director, White House Initiative on Tribal Colleges and Universities. Effective July 12, 2005.

DBGS00407 Director, Office of International Relations to the Chief of Staff. Effective July 13, 2005.

DBGS00409 Deputy Assistant Secretary to the Assistant Secretary for Vocational and Adult Education. Effective July 20, 2005.

DBGS00410 Confidential Assistant to the Chief of Staff. Effective July 21, 2005.

DBGS00411 Special Assistant to the Chief of Staff. Effective July 22, 2005.

DBGS00412 Director, International Affairs Office to the Chief of Staff. Effective July 22, 2005.

DBGS00413 Special Assistant to the Assistant Secretary for Elementary and Secondary Education. Effective July 22, 2005.

DBGS00414 Deputy Assistant Secretary for Evaluation to the Assistant Secretary for Planning, Evaluation, and Policy Development. Effective July 22, 2005.

DBGS00415 Confidential Assistant to the Assistant Secretary for Planning, Evaluation, and Policy Development. Effective July 22, 2005.

DBGS00416 Deputy Assistant Secretary to the Assistant Secretary for Vocational and Adult Education. Effective July 28, 2005.

Section 213.3318 Environmental Protection Agency

EPGS05016 Deputy to the Press Secretary to the Associate Administrator for Public Affairs. Effective July 06, 2005.

EPGS05013 Special Assistant to the Deputy Associate Administrator for Public Affairs to the Deputy Associate Administrator. Effective July 29, 2005.

Section 213.3325 United States Tax Court

JCGS60066 Trial Clerk to the Chief Judge. Effective July 15, 2005.

JCGS60067 Trial Clerk to the Chief Judge. Effective July 15, 2005.

JCGS60068 Trial Clerk to the Chief Judge. Effective July 15, 2005.

Section 213.3327 Department of Veterans Affairs

DVGS60098 Special Assistant to the Assistant Secretary for Public and Intergovernmental Affairs. Effective July 19, 2005.

Section 213.3330 Securities and Exchange Commission

SEOT60060 Confidential Assistant to a Commissioner. Effective July 26, 2005.

Section 213.3331 Department of Energy

DEGS00477 Policy Advisor to the Director, Office of Science. Effective July 06, 2005.

DEGS00478 Special Assistant to the Director, Office of Scheduling and Advance. Effective July 07, 2005.

DEGS00479 Deputy Assistant Secretary for Environment and Science to the Assistant Secretary for Congressional and Intergovernmental Affairs. Effective July 07, 2005.

DEGS00481 Congressional Affairs Officer to the Director of Congressional, Intergovernmental and Public Affairs. Effective July 13, 2005.

DEGS00476 Policy Advisor to the Director Office of Worker and Community Transition. Effective July 14, 2005.

DEGS00480 Senior Policy Advisor for Middle East Affairs to the Assistant Secretary for Policy and International Affairs. Effective July 15, 2005.

DEGS00467 Special Assistant to the Associate Director. Effective July 18, 2005.

DEGS00482 Policy Advisor to the Assistant Secretary for Environment, Safety and Health. Effective July 29, 2005.

DEGS00483 Director, Communications and Speechwriting to the Director, Public Affairs. Effective July 29, 2005.

Section 213.3332 Small Business Administration

SBGS00588 Director, External Affairs to the Associate Administrator for Strategic Alliances. Effective July 12, 2005.

SBGS00589 Legislative Assistant to the Associate Administrator for Congressional and Legislative Affairs. Effective July 20, 2005.

Section 213.3333 Federal Deposit Insurance Corporation

FDOT00012 Director for Public Affairs to the Chairman of the Board of Directors (Director). Effective July 20, 2005.

Section 213.3337 General Services Administration

GSGS00166 Deputy Associate Administrator for Small Business Utilization to the Associate Administrator for Small Business Utilization. Effective July 15, 2005.

GSGS00167 Confidential Assistant to the Chief Acquisition Officer. Effective July 28, 2005.

Section 213.3343 Farm Credit Administration

FLOT00028 Director, Congressional and Public Affairs to the Chairman. Effective July 19, 2005.

Section 213.3379 Commodity Futures Trading Commission

CTOT00030 Chief of Staff to the Chairperson. Effective July 28, 2005.

Section 213.3384 Department of Housing and Urban Development

DUGS60490 Special Policy Advisor to the Assistant Secretary for Community Planning and Development. Effective July 06, 2005.

DUGS60456 Staff Assistant to the Assistant Secretary for Policy Development and Research. Effective July 11, 2005.

DUGS60028 Staff Assistant to the Assistant Deputy Secretary for Field Policy and Management. Effective July 28, 2005.

Section 213.3394 Department of Transportation

DTGS60070 Special Assistant to the Assistant Secretary for Governmental Affairs. Effective July 07, 2005.

DTGS60376 Director, Office of Small and Disadvantaged Business Utilization to the Secretary. Effective July 14, 2005.

Section 213.3396 National Transportation Safety Board

TBGS60105 Confidential Assistant to the Vice Chairman. Effective July 12, 2005.

Section 213.33 National Endowment for the Humanities

NHGS00078 Assistant Director for Communications to the Director of Communications. Effective July 18, 2005.

Authority: 5 U.S.C. 3301 and 3302; E.O. 10577, 3 CFR 1954-1958 Comp., P.218.

Linda M. Springer,
Director, Office of Personnel Management.

[FR Doc. 05-16590 Filed 8-19-05; 8:45 am]

BILLING CODE 6325-39-P